DEPARTMENT OF ENERGY

Federal Energy Regulatory Commission

[Docket No. CP16-357-000; Docket No. CP16-361-000]

Columbia Gas Transmission, LLC, Columbia Gulf Transmission, LLC; Notice of Revised Schedule for Environmental Review of the Mountaineer Xpress Project and the Gulf Xpress Project

This notice identifies the Federal Energy Regulatory Commission staff's revised schedule for the completion of the environmental impact statement (EIS) for Columbia Gas Transmission, LLC's Mountaineer XPress Project and Columbia Gulf Transmission, LLC's Gulf XPress Project. The first notice of schedule, issued on September 14, 2016, identified April 28, 2017 as the final EIS issuance date. However, due to recently filed re-routes and additional environmental information that required re-opening a scoping period, it was necessary for us to revise the published EIS schedule. Staff has now received all the information necessary to complete our review. As a result, staff has revised the schedule for issuance of the final EIS, based on a revised issuance of the draft EIS in February 2017.

Schedule for Environmental Review

Issuance of Notice of Availability of the final EIS: July 28, 2017.

90-day Federal Authorization Decision Deadline: October 26, 2017.

If another schedule change becomes necessary, an additional notice will be provided so that the relevant agencies are kept informed of the projects' progress.

Additional Information

In order to receive notification of the issuance of the EIS and to keep track of all formal issuances and submittals in specific dockets, the Commission offers a free service called eSubscription (http://www.ferc.gov/docs-filing/esubscription.asp).

Dated: November 29, 2016.
Kimberly D. Bose,
Secretary.

[FR Doc. 2016-29217 Filed 12-5-16; 8:45 am]

BILLING CODE 6717-01-P